DEPARTMENT OF COMMERCE

National Oceanic and Atmospheric Administration

National Sea Grant Advisory Board

AGENCY: National Oceanic and Atmospheric Administration, Commerce.

ACTION: Notice of public meeting.

SUMMARY: This notice sets forth the schedule and proposed agenda of a forthcoming meeting of the National Sea Grant Advisory Board (Board). Board members will discuss and provide advice on the National Sea Grant College Program in the areas of program evaluation, strategic planning, education and extension, science and technology programs, and other matters as described in the agenda found on the National Sea Grant College Program Web site at http://www.seagrant.noaa.gov/leadership/advisory_board.html.

DATES: The announced meeting is scheduled 8:00 a.m.-5:00 p.m. EST Monday, March 4 and 8:00 a.m.-5:00 p.m. EST Tuesday, March 5, 2013.

ADDRESSES: The meeting will be held at the Melrose Hotel, 2430 Pennsylvania Avenue Northwest, Washington, DC 20037.

Status: The meeting will be open to public participation with a 15-minute public comment period on Tuesday, March 5 at 11:00 a.m. E.S.T. (check agenda on Web site to confirm time.) The Board expects that public statements presented at its meetings will not be repetitive of previously submitted verbal or written statements. In general, each individual or group making a verbal presentation will be limited to a total time of three (3) minutes. Written comments should be received by the Designated Federal Officer by February 26, 2013 to provide sufficient time for Board review. Written comments received after February 26, 2013 will be distributed to the Board, but may not be reviewed prior to the meeting date. Seats will be available on a first-come, first-served basis.

Special Accomodations: These meetings are physically accessible to people with disabilities. Requests for sign language interpretation or other auxiliary aids should be directed to Elizabeth Ban, Designated Federal Officer at 301-734-1082 by February 22, 2013.

FOR FURTHER INFORMATION CONTACT: Ms. Elizabeth Ban, Designated Federal Officer, National Sea Grant College Program, National Oceanic and Atmospheric Administration, 1315 East-West Highway, Room 11843, Silver Spring, Maryland 20910, (301) 734-1082.

SUPPLEMENTARY INFORMATION: The Board, which consists of a balanced representation from academia, industry, state government and citizens groups, was established in 1976 by Section 209 of the Sea Grant Improvement Act (Pub. L. 94-461, 33 U.S.C. 1128). The Board advises the Secretary of Commerce and the Director of the National Sea Grant College Program with respect to operations under the Act, and such other matters as the Secretary refers to them for review and advice.

The agenda for this meeting will be available at http://www.seagrant.noaa.gov/leadership/advisory_board.html.

Dated: February 6, 2013.
Jason Donaldson,
Chief Financial Officer/Chief Administrative Officer, Office of Oceanic and Atmospheric Research, National Oceanic and Atmospheric Administration.

[FR Doc. 2013-03446 Filed 2-13-13; 8:45 am]

BILLING CODE 3510-KA-P